DEPARTMENT OF ENERGY

Federal Energy Regulatory Commission

[Docket No. EC04-64-000, et al.]

Denver City Energy Associates, L.P., et al.; Electric Rate and Corporate Filings

February 13, 2004.

The following filings have been made with the Commission. The filings are listed in ascending order within each docket classification.

1. Denver City Energy Associates, L.P.

[Docket No. EC04-64-000]

Take notice that on February 11, 2004, Denver City Energy Associates, L.P. (DCE) filed with the Federal Energy Regulatory Commission an application pursuant to section 203 of the Federal Power Act for authorization of an indirect disposition of jurisdictional facilities in connection with the sale by United States Power Fund, L.P. to UnionBanCal Equities, Inc. DCE states that it request confidential treatment of a document submitted therewith.

DCE states that copies of the application were served upon the Public Utility Commission of Texas and Golden Spread Electrical Cooperative, Inc.

Comment Date: March 3, 2004.

2. ALLETE, Inc.

[Docket No. EL04-81-000]

Take notice that on February 9, 2004, ALLETE, Inc. (ALLETE) tendered for filing a Petition for Declaratory Order pursuant to rule 207 of the Commission's rules of practice and procedure, 18 CFR 385.207, seeking Commission ratification that: (i) The distribution to ALLETE's shareholders of common stock of its indirect wholly-owned non-utility subsidiary, ADESA Corporation is not prohibited by section 305(a) of the Federal Power Act; and (ii) the manner in which ALLETE proposes to account for the distribution is acceptable and in accordance with the Uniform System of Accounts.

Comment Date: March 1, 2004.

3. BlueStar Energy Services, Inc.

[Docket No. ER04-426-001]

Take notice that on February 11, 2004, BlueStar Energy Services, Inc. (BlueStar) tendered for filing an amendment to its petition filed January 20, 2004, in Docket No. ER04-426-000.

Comment Date: March 3, 2004.

4. PacifiCorp

[Docket No. ER04-489-001]

Take notice that on February 11, 2004, PacifiCorp tendered for filing in accordance with 18 CFR part 35 of the Commission's rules and regulations an amendment to PacifiCorp's December 17, 2003, filing submitting proposed revisions to PacifiCorp's market based rate tariff designated as FERC Electric Tariff, 4th Rev. Volume No. 12. PacifiCorp requests waiver of the Commission's prior notice requirements so that the revisions may be effective on December 17, 2003.

PacifiCorp states that copies of this filing have been supplied to all parties designated on the official service list compiled by the Secretary in this proceeding.

Comment Date: March 3, 2004.

5. SWEPI LP

[Docket No. ER04-547-000]

Take notice that on February 11, 2004, SWEPI LP tendered for filing a Notice of Cancellation, of its FERC Electric Tariff, Original Volume No. 1, which was accepted by the Commission on October 24, 2002, in Docket No. ER02-2558-000. SWEPI LP requests waiver of the 60-day notice period to allow the cancellation of its tariff to become effective immediately.

Comment Date: March 3, 2004.

6. PJM Interconnection, L.L.C.

[Docket No. ER04-548-000]

Take notice that on February 11, 2004, PJM Interconnection, L.L.C. (PJM) submitted revisions to Schedule 9-2 and Schedule 9-3 of the PJM Open Access Transmission Tariff (PJM Tariff) regarding the recovery of costs of administering Financial Transmission Rights and Market Support Services. PJM requests waiver of 18 CFR 35.3 to permit an effective date of April 1, 2004, for the proposed revisions to Schedule 9-2. PJM requests an effective date of May 1, 2004, for the proposed revisions to Schedule 9-3.

PJM states that copies of the filing were served on all PJM members and on the utility regulatory commissions in the PJM region.

Comment Date: March 3, 2004.

7. Virginia Electric and Power Company

[Docket No. ER04-549-000]

Take notice that on February 11, 2004, Virginia Electric and Power Company, doing business as Dominion Virginia Power, tendered for filing its Large Generator Interconnection Procedures and Large Generator Interconnection Agreement in compliance with Order No. 2003 issued July 24, 2003, in Docket No. RM02-1-000 and Order Denying Stay and Granting Extension issued 7/24/03 in Docket Nos. RM02-1-000 and 001. Dominion Virginia Power requests an effective date of February 12, 2004.

Dominion Virginia Power states that copies of the filing were served upon customers under Dominion Virginia Power's open access transmission tariff, the Virginia State Corporation Commission and the North Carolina Utilities Commission.

Comment Date: March 3, 2004.

8. Aquila, Inc.

[Docket No. ES04-13-000]

Take notice that on February 9, 2004, Aquila, Inc. (Aquila) submitted an application pursuant to section 204 of the Federal Power Act to authorize Aquila to issue up to and including $500 million of secured and unsecured notes and other evidences of indebtedness.

Comment Date: March 1, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-357 Filed 2-23-04; 8:45 am]

BILLING CODE 6717-01-P